DEPARTMENT OF LABOR

Employment and Training Administration

[TA-W-73,579]

Consolidated Glass and Mirror Corporation, a Subsidiary of Guardian Industries Corporation, Galax, VA; Notice of Negative Determination on Reconsideration

On September 21, 2010, the Department of Labor issued an Affirmative Determination Regarding Application for Reconsideration for the workers and former workers of Consolidated Glass and Mirror Corporation, a Subsidiary of Guardian Industries Corporation, Galax, Virginia (subject firm). The Notice was published in the Federal Register on September 29, 2010 (75 FR 60139). Workers are engaged in employment related to the production of mirrored and/or laminated glass articles used in furniture, automotives and architecture.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that the subject firm did not, during the period under investigation, shift to/acquire from a foreign country the production of articles like or directly competitive with the mirrored and/or laminated glass products manufactured by the workers; that increased imports of articles like or directly competitive with the mirrored and/or laminated glass products manufactured by the workers did not contribute importantly to the workers' separation, or threat of separation; and that the workers did not produce a component part that was directly used in the production of an article or the supply of service by a firm that employed a worker group that is eligible to apply for Trade Adjustment Assistance (TAA) based on the aforementioned article.

The request for reconsideration, filed by former workers of the subject firm, stated that the Galax, Virginia facility is owned by “Guardian Industries, a company that has plants all over the world” and identified customers with worker groups eligible to apply for TAA (“Pulaski Furniture certified 1/17/07, Woodmaster certified 5/19/06, Ridgeway Furniture certified 11/6/07, Hooker Furniture certified 10/5/06, American Pride certified 8/25/09 and Stanley Furniture 5/5/10”). The workers also supplied an article, dated February 24, 2010, that stated “Guardian is a diversified global manufacturing company * * * Guardian * * * operates facilities throughout North America, Europe, South America, Asia, Africa, and the Middle East.”

During the reconsideration investigation, the Department obtained from the subject firm additional information related to those customers identified in the request for reconsideration that both employed workers groups eligible to apply for TAA and conducted business with the subject firm during the relevant period.

Information obtained during the reconsideration investigation confirmed that, during the relevant period, the subject firm did not shift to/acquire from a foreign country import articles like or directly competitive with mirrored and/or laminated glass products manufactured by the subject workers. Further, the subject firm confirmed that, on a firm-wide basis, they do not import articles like or directly competitive with mirrored/laminated glass products nor did the subject firm import articles directly incorporating component parts produced outside the United States that are like or directly competitive with imports of articles incorporating one or more component parts produced by the subject firm.

While the subject firm may have produced and supplied a component part used by a firm that both employed a worker group that is currently eligible to apply for TAA and directly incorporated the glass products in the production of that article that was the basis for the TAA certification, information obtained during the reconsideration investigation revealed that the customer accounted for an insignificant percentage of the subject firm sales. Therefore, the Department confirms that the subject workers are not adversely affected secondary workers.

Conclusion

After reconsideration, I affirm the original notice of negative determination of eligibility to apply for worker adjustment assistance for workers and former workers of Consolidated Glass and Mirror Corporation, a Subsidiary of Guardian Industries Corporation, Galax, Virginia.

Signed in Washington, DC, on this 29th day of March, 2011.
Del Min Amy Chen,
Certifying Officer, Office of Trade Adjustment Assistance.

[FR Doc. 2011-8309 Filed 4-6-11; 8:45 am]

BILLING CODE 4510-FN-P